DEPARTMENT OF THE INTERIOR

National Park Service

[NPS-WASO-NAGPRA-NPS0029958; PPWOCRADN0-PCU00RP14.R50000]

Notice of Inventory Completion: Columbus State University, Columbus, GA

AGENCY: National Park Service, Interior.

ACTION: Notice.

SUMMARY: Columbus State University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Columbus State University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Columbus State University at the address in this notice by June 15, 2020.

ADDRESSES: Danielle Cook, Columbus State University, 4225 University Avenue, Columbus, GA 31907, telephone (706) 507-8063, email cook_danielle@columbusstate.edu.

SUPPLEMENTARY INFORMATION: Notice is hereby given in accordance with the Native American Graves Protection and Repatriation Act (NAGPRA), 25 U.S.C. 3003, of the completion of an inventory of human remains and associated funerary objects under the control of Columbus State University, Columbus, GA. The human remains and associated funerary objects were removed from the Abercrombie Site (1RU61), Phenix City, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Columbus State University professional staff in consultation with representatives of the Alabama-Coushatta Tribe of Texas (previously listed as the Alabama-Coushatta Tribes of Texas); Alabama-Quassarte Tribal Town; Cherokee Nation; Eastern Band of Cherokee Indians; Kialegee Tribal Town; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Chickasaw Nation; The Muscogee (Creek) Nation; The Seminole Nation of Oklahoma; Thlopthlocco Tribal Town; and the United Keetoowah Band of Cherokee Indians (hereafter referred to as “The Tribes”).

History and Description of the Remains

Between 1957 and 1983, human remains representing, at minimum, 28 individuals were removed from the Abercrombie site (1RU61) in Phenix City, AL. In the fall of 2016, the collection was loaned to Fort Benning by the Columbus Museum for the purpose of a display to be created by Fort Benning and displayed at the Columbus Museum. While the collection was in the possession of Fort Benning, human remains were identified. In the spring of 2017, Fort Benning, the Columbus Museum, and Columbus State University (CSU) agreed that ownership of the collection should be transferred to Columbus State University. CSU identified 28 individuals and 798 associated funerary objects. The 798 associated funerary objects are five glass beads, 33 whelk shell beads, 28 shell fragments, one whelk shell gorget, 689 ceramic fragments, 27 pieces of daub, one quartz fragment, two copper fragments, five lithic fragments, one historic metal, two floral fragments, one clay ball, and three complete pottery vessels.

In the 17th century, the area in which site 1RU61 is located was called the Province of Apalachicoli by the Spanish. The area is believed to have been occupied by Hitchiti speakers until the late 17th century, when Muskhogee speakers also known as the Lower Creek—occupied the area. Both the Hitchiti and the Lower Creek are related to The Tribes.

Determinations Made by Columbus State University

Officials of Columbus State University have determined that:

• Pursuant to 25 U.S.C. 3001(9), the human remains described in this notice represent the physical remains of 28 individuals of Native American ancestry.

• Pursuant to 25 U.S.C. 3001(3)(A), the 798 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Danielle Cook, Columbus State University, 226 Jordan Hall, Columbus, GA 31907, telephone (857) 930-3002. Email cook_danielle@columbusstate.edu, by June 15, 2020. After that date, if no additional requestors have come forward, transfer of control of the human remains and associated funerary objects to The Tribes may proceed.

Columbus State University is responsible for notifying The Tribes that this notice has been published.

Dated: February 28, 2020.
Melanie O'Brien,
Manager, National NAGPRA Program.

[FR Doc. 2020-10433 Filed 5-14-20; 8:45 am]

BILLING CODE 4312-52-P